DEPARTMENT OF HOMELAND SECURITY

[USCG-2004-19842]

Ballast Water Management for Vessels Entering the Great Lakes That Declare No Ballast Onboard

AGENCY: Coast Guard, DHS.

ACTION: Notice of public meeting; request for comments.

SUMMARY: The Coast Guard seeks consultation with all interested and affected parties in identifying ballast water management strategies for vessels entering the Great Lakes that declare no ballast onboard (NOBOB). Our goal for these strategies is to prevent the introduction and spread of nonindigenous species via NOBOBs. To aid in the development of ballast water management strategies for NOBOBs, the Coast Guard will also hold a public meeting in order to expand the opportunity for the public to comment. We encourage all interested and/or affected stakeholders to submit comments and to attend the public meeting.

DATES: The public meeting will be held at the following date and city:

• Cleveland, OH, May 9, 2005, from 9 a.m. to 4 p.m. and from 5 p.m. to 7 p.m.

Comments and related material must reach the Docket Management Facility on or before May 9, 2005.

ADDRESSES: The Coast Guard will hold the public meeting at the following address:

• Cleveland, OH, Anthony J. Celebreeze Federal Building, 1240 E. 9th Street, Cleveland, OH, 44419, 1-216-902-6020.

You may also submit your comments and related material by only one of the following means:

(1) By mail to the Docket Management Facility (USCG-2004-19842), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

In choosing among these means, please give due regard to the recent difficulties and delays associated with the delivery of mail through the U.S. Postal Service to Federal facilities. Delivery methods 2-4 of those listed above are the preferred methods because security measures taken by the U.S. Postal Service and Coast Guard mail reception facilities may seriously damage or render unreadable comments sent via regular mail.

The Docket Management Facility maintains the public docket for this rulemaking. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket at the following Web site address: http://dms.dot.gov.

Electronic forms of all comments received into any of our dockets can be searched by the name of the individual submitting the comment (or signing the comment, if submitted on behalf of an association, business, labor unit, etc.) and is open to the public without restriction. You may review the Department of Transportation's complete Privacy Act Statement in the Federal Register published on April 11, 2000 (65 FR 19477-78), or you may visit http://dms.dot.gov/.

FOR FURTHER INFORMATION CONTACT: For information concerning this notice and the public meeting, call Mr. Bivan Patnaik, Project Manager, Environmental Standards Division, U.S. Coast Guard, telephone 202-267-1744 or via e-mail bpatnaik@comdt.uscg.mil. If you have any questions on viewing or submitting material to the docket, call Ms. Andrea M. Jenkins, Program Manager, Docket Operations, Department of Transportation, telephone 202-366-0271.

SUPPLEMENTARY INFORMATION:

Request for Comments

The Coast Guard encourages interested persons to submit written data, views, or comments. Persons submitting comments should please include their name and address and identify the docket number (USCG-2004-19842). You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they were received, please enclose a stamped, self-addressed postcard or envelope.

Information on Services for Individuals With Disabilities

If you plan to attend the public meeting and require special assistance, such as sign language interpretation or other reasonable accommodations, please contact us as indicated in FOR FURTHER INFORMATION CONTACT.

Public Meetings

The Coast Guard encourages interested and affected stakeholders to attend the public meeting and provide oral or written comments. The meeting is open to the public. Please note that the public meeting may close early if all business is finished. If you are unable to attend, you may submit comments to the Docket Management Facility at the address under ADDRESSES by May 9, 2005.

Regulatory History

The Nonindigenous Aquatic Nuisance Prevention and Control Act of 1990, as reauthorized and amended by the National Invasive Species Act of 1996, authorizes the Coast Guard to develop regulations to prevent the introduction of nonindigenous species (NIS) via ballast water discharges. The Coast Guard recently promulgated regulations in the Federal Register on June 14, 2004, entitled, “Penalties for Non-submission of Ballast Water Management Reports” (68 FR 32864) and on July 28, 2004, entitled “Mandatory Ballast Water Management for U.S. Waters” (69 FR 44952). In doing so, the Great Lakes Ballast Water Management Program that became effective on May 10, 1993 (58 FR 18330), has remained unchanged, with the exception that all vessels equipped with ballast water tanks that enter the Great Lakes must now submit their ballast water reporting forms as of August 13, 2004 (68 FR 32864).

Description of Issue

Only vessels carrying pumpable ballast water that enter the Great Lakes after operating outside the U.S. Exclusive Economic Zone are required to comply with the Great Lakes ballast water management requirements found in 33 CFR part 151, subpart C. As a large number of vessels that call on the Great Lakes arrive with No Ballast on Board (NOBOB), they are not required to comply with these requirements. However, NOBOBs have the potential to carry NIS in their empty tanks via residual ballast water and/or accumulated sediments. Once NOBOBs enter the Great Lakes and take up ballast water, this water may mix with the residual water and sediments and if discharged into the Great Lakes, may provide a mechanism for NIS to enter the Great Lakes. Therefore, the Coast Guard is seeking the public's assistance in developing management strategies to address the invasion risks posed by NOBOBs.

The Coast Guard will use information gathered from this notice to develop a comprehensive program to reduce the threat of introducing NIS into the Great Lakes via NOBOBs. The identification of strategies to address invasion risks from residual ballast water and sediments must take into account vessel safety and stability, the full range of vessel types entering the Great Lakes, costs associated with implementing strategy options, and the need to evaluate the effectiveness of these strategies in actually preventing the introduction of NIS into the Great Lakes. The development of management strategies to prevent NIS introduction from NOBOBs presents a complex challenge and requires close collaboration between government agencies, the scientific community, the shipping industry, and a wide range of stakeholders.

Dated: January 3, 2005.
Joseph J. Angelo,
Director of Standards, Marine Safety, Security & Environmental Protection.

[FR Doc. 05-378 Filed 1-6-05; 8:45 am]

BILLING CODE 4910-15-P